DEPARTMENT OF THE INTERIOR

Bureau of Indian Affairs

[178A2100DD/AAKC001030/A0A501010.999900 253G]

Agency Information Collection Activities: OMB Control Number 1076-0178; Native American Business Development Institute (NABDI) Funding Solicitations and Reporting

AGENCY: Bureau of Indian Affairs, Interior.

ACTION: Notice of request for comments.

SUMMARY: In compliance with the Paperwork Reduction Act of 1995, the Assistant Secretary—Indian Affairs is seeking comments on the renewal of Office of Management and Budget (OMB) approval for the collection of information for the Native American Business Development Institute (NABDI) Funding Solicitation and Reporting authorized by OMB Control Number 1076-0178. This information collection expires September 30, 2017.

DATES: Submit comments on or before September 25, 2017.

ADDRESSES: You may submit comments on the information collection to Mr. Jack Stevens, Division Chief, Office of Indian Energy and Economic Development, Assistant Secretary—Indian Affairs, 1951 Constitution Avenue NW., MS-20 SIB, Washington, DC 20240; facsimile: (202) 208-4564; email: Jack.Stevens@bia.gov.

FOR FURTHER INFORMATION CONTACT: Mr. Jack Stevens, (202) 208-6764.

SUPPLEMENTARY INFORMATION:

I. Abstract

The Division of Economic Development (DED), within the Office of Indian Energy and Economic Development (IEED), established the Native American Business Development Institute (NABDI) to provide technical assistance funding to federally recognized American Indian Tribes seeking to retain universities and colleges, private consulting firms, non-academic/non-profit entities, or others to prepare studies of economic development opportunities or plans. These studies and plans will empower American Indian Tribes and Tribal businesses to make informed decisions regarding their economic futures. Studies may concern the viability of an economic development project or business or the practicality of a technology a Tribe may choose to pursue. The DED will specifically exclude from consideration proposals for research and development projects, requests for funding of salaries for Tribal government personnel, funding to pay legal fees, and requests for funding for the purchase or lease of structures, machinery, hardware or other capital items. Plans may encompass future periods of five years or more and include one or more economic development factors including but not limited to land and retail use, industrial development, tourism, energy, resource development and transportation.

This is an annual program whose primary objective is to create jobs and foster economic activity within Tribal communities. The DED will administer the program within IEED; and studies and plans as described herein will be sole discretionary projects DED will consider or fund absent a competitive bidding process. When funding is available, DED will solicit proposals for studies and plans. To receive these funds, Tribes may use the contracting mechanism established by Public Law 93-638, the Indian Self-Determination Act or may obtain adjustments to their funding from the Office of Self-Governance. See 25 U.S.C. 450 et seq.

Interested applicants must submit a Tribal resolution requesting funding, a statement of work describing the project for which the study is requested or the scope of the plan envisioned, the identity of the academic institution or other entity the applicant wishes to retain (if known) and a budget indicating the funding amount requested and how it will be spent. The DED expressly retains the authority to reduce or otherwise modify proposed budgets and funding amounts.

Applications for funding will be juried and evaluated on the basis of a proposed project's potential to generate jobs and economic activity on the reservation.

II. Request for Comments

The IEED requests your comments on this collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents.

Please note that an agency may not conduct or sponsor, and an individual need not respond to, a collection of information unless it has a valid OMB Control Number.

It is our policy to make all comments available to the public for review at the location listed in the ADDRESSES section. Before including your address, phone number, email address or other personal identifying information in your comment, you should be aware that your entire comment—including your personal identifying information—may be made publicly available at any time. While you can ask us in your comment to withhold your personal identifying information from public review, we cannot guarantee that we will be able to do so.

III. Data

OMB Control Number: 1076-0178.

Title: Native American Business Development Institute (NABDI) Funding Solicitations and Reporting.

Brief Description of Collection: Indian Tribes that would like to apply for NABDI funding must submit an application that includes certain information. A complete application must contain:

• A duly-enacted, signed resolution of the governing body of the Tribe;

• A proposal describing the planned activities and deliverables products; and

• The identity (if known) of the academic institution, private consultant, non-profit/non-academic entity, or other entity the Tribe has chosen to perform the study or prepare the plan; and

• A detailed budget estimate, including contracted personnel costs, travel estimates, data collection and analysis costs, and other expenses, through DED reserves authority to reduce or otherwise modify this budget.

The DED requires this information to ensure that it provides funding only to those projects that meet the economic development and job creation goals for which NABDI was established. Applications will be evaluated on the basis of the proposed project's potential to generate jobs and economic activity on the reservation. Upon completion of the funded project, a Tribe must then submit a final report summarizing events, accomplishments, problems and/or results in executing the project.

Type of Review: Extension without change of currently approved collection.

Respondents: Indian Tribes with trust or restricted land.

Number of Respondents: 20 applicants per year; 20 project participants each year, on average.

Frequency of Response: Once per year for applications and final report.

Estimated Time per Response: 40 hours per application; 1.5 hours per progress report.

Obligation to Respond: Response is required to obtain a benefit.

Estimated Total Annual Hour Burden: 830 hours (800 for applications and 30 for final reports).

Estimated Total Annual Non-Hour Dollar Cost: $0.

Authority

The authority for this action is the Paperwork Reduction Act of 1995, 44 U.S.C. 3501 et seq.

Elizabeth K. Appel,
Director, Office of Regulatory Affairs and Collaborative Action—Indian Affairs.

[FR Doc. 2017-15678 Filed 7-25-17; 8:45 am]

BILLING CODE 4337-15-P